DEPARTMENT OF ENERGY

Office of Energy Efficiency and Renewable Energy

Federal Energy Management Program; Standard for Premium Energy Efficient Electric Motors for Federal Acquisition

Corrections

In notice document 06-1363 beginning on page 7749 in the issue of Tuesday, February 14, 2006, make the following corrections:

1. On page 7750, in Table 1, in the fourth column, in the fifth entry, “85.5” should read “86.5”.

2. On the same page, in the same table, in the fifth column, in the 18th entry, “95.0” should read “95.8”.

[FR Doc. C6-1363 Filed 2-27-06; 8:45 am]

BILLING CODE 1505-01-D